NATIONAL SCIENCE FOUNDATION

Advisory Committee for Engineering; Notice of Meeting

In accordance with the Federal Advisory Committee Act (Pub. L. 92-463, as amended), the National Science Foundation (NSF) announces the following meeting:

Name and Committee Code: Advisory Committee for Engineering (#1170) (Hybrid Meeting).

Date and Time: September 19, 2024; 10:00 a.m.-5:15 p.m. (Eastern); September 20, 2024; 8:30 a.m.-1:00 p.m. (Eastern).

Place: NSF, 2415 Eisenhower Avenue, Alexandria, VA 22314 (Virtual and In-person).

Additional meeting information, an updated agenda, and registration information will be posted on the advisory committee website at: https://www.nsf.gov/eng/advisory.jsp.

Type of Meeting: Open.

Contact Persons: Don Millard, National Science Foundation, 2415 Eisenhower Avenue, Alexandria, VA 22314; Telephone: (703) 292-8300.

Purpose of Meeting: To provide advice, recommendations and counsel on major goals and policies pertaining to engineering programs and activities.

Agenda

Thursday, September 19, 2024

• Welcome

• Directorate for Engineering (ENG) Report

• Communicating Impacts of Engineering on Society

• Division of Civil, Mechanical and Manufacturing Innovation (CMMI) overview and Committee of Visitors (COV) report

• Division of Chemical, Bioengineering, Environmental and Transport Systems (CBET) overview and COV report

• Division of Electrical, Communications and Cyber Systems (ECCS) overview and COV report

• Division of Engineering Education and Centers (EEC) overview and COV report

• ENG-wide COV discussion

• Strategic Recommendations for ENG

• Preparation for Discussion with the Director's Office

Friday, September 20, 2024

• Reports from Advisory Committee Liaisons

• Research Security

• Preparation for Discussion with the Director's Office

• Perspective from the Director's Office

• Strategic Recommendations for ENG

• Closing Remarks

Date: August 15, 2024.
Crystal Robinson,
Committee Management Officer.

[FR Doc. 2024-18662 Filed 8-19-24; 8:45 am]

BILLING CODE 7555-01-P